DEPARTMENT OF THE INTERIOR

National Park Service

Cedar Creek and Belle Grove National Historical Park Advisory Commission; Notice of Public Meetings

AGENCY: Department of the Interior, National Park Service, Cedar Creek and Belle Grove National Historical Park Advisory Commission.

ACTION: Notice of meetings.

SUMMARY: Notice is hereby given in accordance with the Federal Advisory Committee Act that meetings of the Cedar Creek and Belle Grove National Historical Park Advisory Commission will be held to discuss the development and implementation of the Park's general management plan.

Date: September 17, 2009.

Location: Middletown Town Council Chambers, 7875 Church Street, Middletown, VA.

Date: December 17, 2009.

Location: Warren County Government Center, 220 North Commerce Avenue, Front Royal, VA.

Date: March 18, 2010.

Location: Strasburg Town Hall Council Chambers, 174 East King Street, Strasburg, VA.

Date: June 17, 2010.

Location: Middletown Town Council Chambers, 7875 Church Street, Middletown, VA. All meetings will convene at 8:30 a.m. and are open to the public.

FOR FURTHER INFORMATION, CONTACT: Diann Jacox, Superintendent, Cedar Creek and Belle Grove National Historical Park, (540) 868-9176.

SUPPLEMENTARY INFORMATION: Topics to be discussed at the meetings include: Review of draft general management plan, land protection planning, historic preservation, visitor interpretation, election of a commission chair, and new commission members.

The Park Advisory Commission was designated by Congress to advise on the preparation and implementation of the park's general management plan. Individuals who are interested in the Park, the development and implementation of the plan, or the business of the Advisory Commission are encouraged to attend the meetings.

Dated: August 13, 2009.
Diann Jacox,
Superintendent, Cedar Creek and Belle Grove National Historical Park.

[FR Doc. E9-20432 Filed 8-24-09; 8:45 am]

BILLING CODE 4310-AR-P